DEPARTMENT OF TRANSPORTATION

Coast Guard

33 CFR Part 165

[CGD13-02-007]

RIN 2115-AA97

Safety Zone; Silver Dollar Casino Cup Hydroplane Races, Lake Washington, WA

AGENCY: Coast Guard, DOT.

ACTION: Temporary final rule.

SUMMARY: The Coast Guard is establishing a temporary safety zone on the waters of Lake Washington. The Captain of the Port Puget Sound, Seattle, Washington, is taking this action to safeguard participants and spectators from the safety hazards associated with high performance watercraft operating at high speeds.

DATES: This rule is effective from 11 a.m. (PDT) on June 15, 2002 until 5 p.m. (PDT) on June 16, 2002.

ADDRESSES: Documents indicated in this preamble as being available in the docket are part of docket CGD13-02-007 and are available for inspection or copying at the U.S. Coast Guard Marine Safety Office Puget Sound, 1519 Alaskan Way South, Building 1, Seattle, Washington 98134. Normal office hours are between 8 a.m. and 4 p.m., Monday through Friday, except Federal holidays.

FOR FURTHER INFORMATION CONTACT: LT A. L. Praskovich, c/o Captain of the Port Puget Sound, at (206) 217-6232.

SUPPLEMENTARY INFORMATION:

Regulatory Information

We did not publish a notice of proposed rulemaking (NPRM) for this regulation. Under 5 U.S.C. 553(b)(B) and 5 U.S.C. 553(d)(3), the Coast Guard finds that good cause exists for not publishing an NPRM and for making this rule effective less than 30 days after publication in the Federal Register. Publishing a NPRM would be contrary to the public interest since immediate action is necessary to ensure the safety of vessels and persons that may be transiting in the vicinity of the Silver Dollar Casino Cup races. Specifically, the zone is needed to protect participant and spectator watercraft and their occupants from safety hazards associated with high performance vessels conducting complex maneuvers at high speed. Many onlookers may attempt to view the races at close range, thereby increasing their exposure to these hazards. In turn, participant craft maneuvering at high speed are extremely susceptible to the effects of stray wakes entering the race course. If normal notice and comment procedures were followed, this rule would not become effective until after the date of the event.

Background and Purpose

The Coast Guard is establishing a temporary safety zone for the Silver Dollar Casino Cup Regatta Hydroplane races sponsored by the Northwest Power Boat Association. The zone is needed to protect participant and spectator watercraft and their occupants from safety hazards associated with high performance vessels conducting complex maneuvers at high speed. Many onlookers may attempt to view the races at close range, thereby increasing their exposure to these hazards. In turn, participant craft maneuvering at high speed are extremely susceptible to the effects of stray wakes entering the racecourse. Entry into the race course portion of the safety zone will be prohibited. Entry into the spectator portion of the safety zone will be authorized at a slow no-wake speed. A buoy line will mark the perimeter of the race course portion of the safety zone beyond which spectator vessels may not proceed. This safety zone will be enforced by representatives of the Captain of the Port Puget Sound, Seattle, Washington. The Captain of the Port may be assisted by other federal, state, or local agencies.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

We expect the economic impact of this rule to be so minimal that a full Regulatory Evaluation under paragraph 10(e) of the regulatory policies and procedures of DOT is unnecessary. This expectation is based on the fact that the regulated area established by the rule would encompass a small area that should not significantly impact commercial or recreational traffic. Recreational vessels are the primary users of this area, and the event is being held for the benefit of recreational boaters. For the above reasons, the Coast Guard does not anticipate any significant economic impact.

Small Entities

Under the Regulatory Flexibility Act (5 U.S.C. 601-612), we considered whether this rule would have a significant economic impact on a substantial number of small entities. “Small entities” include small businesses, not-for-profit organizations that are independently owned and operated and are not dominant in their fields, and governmental jurisdictions with populations of less than 50,000. This rule will affect the following entities, some of which may be small entities: the owners or operators of vessels intending to transit this portion of Lake Washington when this rule is in effect. The rule will not have a significant economic impact due to its short duration and small area. Because the impacts of this proposal are expected to be so minimal, the Coast Guard certifies under 605(b) of the Regulatory Flexibility Act (5 U.S.C. 601-612) that this final rule will not have a significant economic impact on a substantial number of small entities.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this rule so that they can better evaluate its effects on them and participate in the rulemaking. If the rule would affect your small business, organization, or governmental jurisdiction and you have questions concerning its provisions or options for compliance, please contact the person listed in the FOR FURTHER INFORMATION CONTACT section.

Collection of Information

This rule would call for no new collection of information under the Paperwork Reduction Act of 1995 (44 U.S.C. 3501-3520).

Federalism

We have analyzed this rule under Executive Order 13132, Federalism, and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule would not impose an unfunded mandate.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We considered the environmental impact of this proposed rule and concluded that, under figure 2-1, paragraph(34)(g) of Commandant Instruction M16475.lC, this rule is categorically excluded from further environmental documentation. A “Categorical Exclusion” is provided for temporary safety zones of less than one week in duration. This rule establishes a temporary safety zone of limited duration which will be within the one-week timeframe.

List of Subjects in 33 CFR Part 165

Harbors, Marine safety, Navigation (water), Reporting and recordkeeping requirements, Security measures, Waterways.

For the reasons set out in the preamble, the Coast Guard amends 33 part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. From 11 a.m. (PDT) on July 15, 2002, until 5 p.m. (PDT) on July 16, 2002, a temporary § 165.T13-004 is added to read as follows:

§ 165.T13-004 Safety Zone; Silver Dollar Casino Cup hydroplane races, Lake Washington, WA.

(a) Location. The following area is a safety zone: all waters of Lake Washington, Renton, Washington, bounded by a line commencing at Coleman Point in position 47°31′07″ N, 122°12′42″ W; thence 1500 feet due west to 47°31′07″ N, 122°13′05″ W; thence due south to the Renton Municipal Airport Runway at 47°30′02″ N, 122°13′05″ W; thence returning along the shoreline to point of origin. (Datum: NAD 83)

(b) Regulations. In accordance with the general regulations in § 165.23 of this part, no person or vessel may enter or remain in the race course portion of this zone, except for: participants in the event, supporting personnel, vessels registered with the event organizer, or other vessels authorized by the Captain of the Port or his designated representatives. Vessels entering the spectator portion of the safety zone must proceed at a slow no-wake speed and, upon notice, shall obey the lawful order or direction of the Captain of the Port or his designated representatives.

(c) Enforcement period. This section will be enforced from 11 a.m. (PDT) to 5 p.m. (PDT) on June 15 and 16, 2002.

Dated: May 28, 2002.
M.R. Moore,
Captain, U.S. Coast Guard, Captain of the Port, Puget Sound.

[FR Doc. 02-15183 Filed 6-12-02; 2:26 pm]

BILLING CODE 4910-15-P